LEGAL SERVICES CORPORATION

45 CFR Part 1611

Income Level for Individuals Eligible for Assistance; Correction

AGENCY: Legal Services Corporation.

ACTION: Final rule; correcting amendment.

SUMMARY: The Legal Services Corporation (LSC) is correcting a final rule that appeared in the Federal Register on January 24, 2024. That document contained a chart listing an incorrect income level for 125% of the Federal Poverty Guidelines for a household of two in the 48 contiguous states and DC This document corrects the income representing 125% of the Federal Poverty Guidelines for a household of two in the 48 contiguous States and DC.

DATES: This correcting amendment is effective February 2, 2024 and is applicable beginning January 24, 2024.

FOR FURTHER INFORMATION CONTACT: Stefanie Davis, Deputy General Counsel and Ethics Officer, Legal Services Corporation, 3333 K St. NW, Washington, DC 20007; (202) 295-1563; sdavis@lsc.gov.

SUPPLEMENTARY INFORMATION: LSC is correcting appendix A to part 1611 due to an error in revising it in a final rule that published in the Federal Register on January 24, 2024, at 89 FR 4562. The rule was effective on date of publication. The table entitled “Legal Services Corporation 2024 Income Guidelines” contained an error in one of its entries. This document corrects that error.

List of Subjects in 45 CFR Part 1611

Grant programs—law, Legal services.

Accordingly, LSC amends 45 CFR part 1611 by making the following correcting amendment:

PART 1611—ELIGIBILITY

1. The authority citation for part 1611 continues to read as follows:

Authority: 42 U.S.C. 2996g(e).

2. In appendix A to part 1611, in the table entitled “Legal Services Corporation 2024 Income Guidelines,” entry 2 is revised to read as follows:

Appendix A to Part 1611—Income Level for Individuals Eligible for Assistance

Legal Services Corporation 2024 Income Guidelines *
Size of household | 48 Contiguous States and the District of Columbia | Alaska | Hawaii
* * * * * * *
2 | 25,550 | 31,925 | 29,375
* * * * * * *
* The figures in this table represent 125% of the Federal Poverty Guidelines by household size as determined by HHS.

* * * * *

Dated: January 29, 2024.
Stefanie Davis,
Deputy General Counsel and Ethics Officer, Legal Services Corporation.

[FR Doc. 2024-02017 Filed 2-1-24; 8:45 am]

BILLING CODE 7050-01-P